DEPARTMENT OF COMMERCE

Patent and Trademark Office

Submission for OMB Review; Comment Request; “International Design Applications (Hague Agreement)”

The United States Patent and Trademark Office (USPTO) will submit to the Office of Management and Budget (OMB) for clearance the following proposal for collection of information under the provisions of the Paperwork Reduction Act (44 U.S.C. Chapter 35).

Agency: United States Patent and Trademark Office, Commerce.

Title: International Design Applications (Hague Agreement).

OMB Control Number: 0651-0075.

Form Number(s): WIPO DM/1.

Type of Request: Regular.

Number of Respondents: 556 responses per year.

Average Time per Response: The USPTO estimates that the response time for activities related to International Design Applications (Hague Agreement) will take the public between approximately 15 minutes (0.25 hours) to 6 hours to complete. This includes the time to gather the necessary information, create the document, and submit the completed request to the USPTO. The USPTO calculates that, on balance, it takes the same amount of time to do this, regardless of whether to the public is submitting the information in paper form or electronically.

Burden Hours: 1,898 hours per year.

Non-Hourly Cost Burden: $424,246.00 per year.

Needs and Uses: The information requested in this collection is necessary for the World Intellectual Property Organization (WIPO), Contracting Parties, and the USPTO to process information design applications and related correspondences under the Hague Agreement. The Hague Agreement is an international agreement that enables an applicant to file a single international design application and have it function as an application for protection for the designs in countries and or organizations that are Parties to the Treaty and designated in the application.

As an initial matter, the International Bureau (IB) of WIPO uses this information to perform its review under the treaty. Pursuant to Article 8 of the treaty, if the International Bureau (IB) finds that the applicant has not fulfilled the requirements of the Hague Agreements and the Common Regulations, the IB will invite the applicant to make the required connections within a prescribed time period. Once this review of the formalities of the application has been completed, the IB then issues an international registration, which includes the information collected from the international design application. The designated Contracting Parties then perform their review of the international design application. The Hague Agreement enables applicants from a Contracting Party to obtain protection of their designs with minimal formality and expense. Additionally, under the Hague Agreement, the international registration can be centrally maintained by the IB. Through the IB, applicants can record changes of their representatives, change ownership, and renew international registrations.

Affected Public: Business or other for-profits; not-for-profit institutions.

Frequency: On occasion.

Respondent's Obligation: Required to Obtain or Retain Benefits.

OMB Desk Officer: Nicholas A. Fraser, email: Nicholas_A._Fraser@omb.eop.gov.

Once submitted, the request will be publicly available in electronic format through www.reginfo.gov. Follow the instructions to view Department of Commerce collections currently under review by OMB.

Further information can be obtained by:

• Email: InformationCollection@uspto.gov. Include “0651-0075 copy request” in the subject line of the message.

• Mail: Marcie Lovett, Records and Information Governance Division Director, Office of the Chief Technology Officer, United States Patent and Trademark Office, P.O. Box 1450, Alexandria, VA 22313-1450.

Written comments and recommendations for the proposed information collection should be sent on or before October 11, 2017 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2017-19183 Filed 9-8-17; 8:45 am]

BILLING CODE 3510-16-P